DEPARTMENT OF TRANSPORTATION

Surface Transportation Board

[STB Finance Docket No. 33914]

Texas Mexican Railway Company—Purchase Exemption—Union Pacific Railroad Company

AGENCY: Surface Transportation Board.

ACTION: Notice of exemption.

SUMMARY: Under 49 U.S.C. 10502, the Board is granting a petition for exemption from the prior approval requirements of 49 U.S.C. 11323-25 for Texas Mexican Railway Company (Tex Mex) to acquire from Union Pacific Railroad Company and operate (1) the Rosenberg Line, an 84.5-mile rail line between milepost 87.0 near Victoria and milepost 2.5 near Rosenberg, TX, and (2) approximately 6.3 miles of overhead trackage rights between mileposts 87.0 and 90.8 and between mileposts 2.5 and 0.0, subject to employee protective conditions.¹

¹ Additionally, the Board is approving Tex Mex's request for permission to use the overhead trackage rights it acquired in Union Pacific/Southern Pacific Merger, 1 S.T.B. 233 (1996), to move the traffic that will originate or terminate on the Rosenberg Line.

DATES: This exemption is effective on December 21, 2000. Petitions to reopen must be filed by January 2, 2001.

ADDRESSES: An original and 10 copies of all pleadings referring to the exemption granted in STB Finance Docket No. 33914 must be filed with the Surface Transportation Board, Office of the Secretary, Case Control Unit, 1925 K Street, NW, Washington, DC 20423-0001. In addition, a copy of all pleadings must be served on petitioner's representative, Richard A. Allen, 888 17th Street, NW, Washington, DC 20006.

FOR FURTHER INFORMATION CONTACT: Joseph H. Dettmar (202) 565-1600. [TDD for the hearing impaired 1-800-877-8339.]

SUPPLEMENTARY INFORMATION: For further information, refer to the Board's decision served December 11, 2000.

To purchase a copy of the full decision, write to, call, or pick up in person from: Dā-To-Dā Office Solutions, 1925 K Street, NW, Room 405, Washington, DC 20006. Telephone: (202) 466-5530. [Assistance for the hearing impaired is available through TDD services 1-800-877-8339.]

Board decisions and notices are available on our website at “WWW.STB.DOT.GOV.”

Decided: December 8, 2000.
By the Board, Chairman Morgan, Vice Chairman Burkes, and Commissioner Clyburn.
Vernon A. Williams,
Secretary.

[FR Doc. 00-31907 Filed 12-14-00; 8:45 am]

BILLING CODE 4915-00-P